SMALL BUSINESS ADMINISTRATION

[Disaster Declaration #20811 and #20812; NEW MEXICO Disaster Number NM-20009]

Presidential Declaration of a Major Disaster for the State of New Mexico

AGENCY: U.S. Small Business Administration.

ACTION: Notice.

SUMMARY: This is a Notice of the Presidential declaration of a major disaster for the State of New Mexico (FEMA-4843-DR), dated November 1, 2024.

Incident: Severe Storm and Flooding.

DATES: Issued on November 1, 2024.

Incident Period: October 19, 2024 through October 20, 2024.

Physical Loan Application Deadline Date: December 31, 2024.

Economic Injury (EIDL) Loan Application Deadline Date: August 1, 2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: Notice is hereby given that as a result of the President's major disaster declaration on November 1, 2024, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary County (Physical Damage and Economic Injury Loans): Chaves.

Contiguous Counties (Economic Injury Loans Only):

New Mexico: De Baca, Eddy, Lea, Lincoln, Otero, Roosevelt

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 208116 and for economic injury is 208120.

(Catalog of Federal Domestic Assistance Number 59008)

Alejandro Contreras,
Acting Deputy Associate Administrator, Office of Disaster Recovery & Resilience.

[FR Doc. 2024-26035 Filed 11-7-24; 8:45 am]

BILLING CODE 8026-09-P